DEPARTMENT OF COMMERCE

International Trade Administration

[A-570-970]

Multilayered Wood Flooring From the People's Republic of China: Preliminary Results of Antidumping Duty Administrative Review; 2012-2013

AGENCY: Enforcement and Compliance, International Trade Administration, Department of Commerce.

SUMMARY: The Department of Commerce (“the Department”) is conducting an administrative review of the antidumping duty order on multilayered wood flooring (“MLWF”) from the People's Republic of China (“PRC”). The period of review (“POR”) is December 1, 2012, through November 30, 2013. We have preliminarily found that respondent Jiangsu Senmao Bamboo and Wood Industry Co., Ltd. (“Jiangsu Senmao”) made sales of subject merchandise at less than normal value (“NV”). We have preliminarily found that respondent Dalian Dajen Wood Co., Ltd. (“Dalian Dajen”) has not made sales of subject merchandise at less than NV.

DATES: Effective January 9, 2015.

FOR FURTHER INFORMATION CONTACT: Charles Riggle, AD/CVD Operations, Office IV, Enforcement and Compliance, International Trade Administration, Department of Commerce, 1401 Constitution Avenue NW., Washington DC 20230; telephone: (202) 482-0650.

SUPPLEMENTARY INFORMATION:

Scope of the Order

The merchandise covered by the order includes MLWF, subject to certain exceptions.¹ Imports of the subject merchandise are provided for under the following subheadings of the Harmonized Tariff Schedule of the United States (“HTSUS”): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; 4418.72.9500; and 9801.00.2500.

¹ See Memorandum from Gary Taverman, Associate Deputy Assistant Secretary for Antidumping and Countervailing Duty Operations to Paul Piquado, Assistant Secretary for Enforcement & Compliance, regarding “Decision Memorandum for Preliminary Results of 2012-2013 Antidumping Duty Administrative Review: Multilayered Wood Flooring from the People's Republic of China,” (“Preliminary Decision Memorandum”) issued and dated concurrently with this notice for a complete description of the Scope of the Order.

While HTSUS subheadings are provided for convenience and customs purposes, the written description of the subject merchandise is dispositive.

Methodology

The Department has conducted this review in accordance with section 751(a)(1)(B) of the Tariff Act of 1930, as amended (“the Act”). Export prices and constructed export prices have been calculated in accordance with section 772 of the Act. Because the PRC is a non-market economy (“NME”) within the meaning of section 771(18) of the Act, NV has been calculated in accordance with section 773(c) of the Act.

For a full description of the methodology underlying our conclusions, please see the Preliminary Decision Memorandum, hereby adopted by this notice. The Preliminary Decision Memorandum is a public document and is on file electronically via Enforcement and Compliance's Antidumping and Countervailing Duty Centralized Electronic Service System (“ACCESS”).² ACCESS is available to registered users at http://access.trade.gov. The Preliminary Decision Memorandum is also available in the Central Records Unit, room 7046 of the main Department of Commerce building. In addition, a complete version of the Preliminary Decision Memorandum can be accessed directly at http://enforcement.trade.gov/frn/index.html. The signed Preliminary Decision Memorandum and the electronic versions of the Preliminary Decision Memorandum are identical in content.

² On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Affiliation

Based on the evidence presented in Dalian Dajen's questionnaire responses, we preliminarily find that Dalian Dajen and HK Artflor International Trading Co., Ltd., a Hong Kong trading company, are affiliated under sections 771(33)(A) and (G) of the Act. We also preliminarily find that Dalian Dajen and Johnson Premium Hardwood Flooring Inc., a U.S. reseller of subject merchandise, are affiliated under section 771(33)(F) of the Act, and that Dalian Dajen and Zhejiang Shiyou Timber Co., Ltd., a separate-rate respondent in this review, are not affiliated under section 771(33) of the Act.³

³ See Memorandum to Abdelali Elouaradia re: “Administrative Review of the Antidumping Duty Order on Multilayered Wood Flooring from the People's Republic of China: Dalian Dajen Wood Co., Ltd.: Affiliation and Single Entity Status” (December 31, 2014).

Preliminary Results of Review

The Department preliminarily determines that the following weighted-average dumping margins exist for the POR from December 1, 2012, through November 30, 2013: ⁴

⁴ In addition to the companies listed in the table, the following companies submitted information on the record demonstrating that they did not ship subject merchandise to the United States during the POR. The Department confirmed their certification of no shipment with U.S. Customs and Border Protection (“CBP”); therefore, the following companies will maintain their rate from the most recent segment in which they participated: Anhui Longhua Bamboo Product Co., Ltd.; Benxi Wood Company; Guangzhou Homebon Timber Manufacturing Co., Ltd., Jiaxing Brilliant Import & Export Co. Ltd..; Pinge Timber Manufacturing (Zhejiang) Co., Ltd.; Power Dekor Group Co., Ltd; Shenyang Senwang Wooden Industry Co., Ltd. Additionally, Dalian Huade Wood Product Co., Ltd. and Zhejiang Fuerjia Wooden Co., Ltd. did not have any qualifying shipments for the Department to review, due to their certification that their only POR shipments underwent review during their respective new shipper reviews. Both companies therefore maintain the dumping margin that was assessed as a result of their respective new shipper reviews.

Exporter | Weighted-average dumping margin (percent)
Dalian Dajen Wood Co., Ltd. | 0.00
Jiangsu Senmao Bamboo and Wood Industry Co., Ltd. | 18.27
A&W (Shanghai) Woods Co., Ltd. | 18.27
Armstrong Wood Products (Kunshan) Ltd. | 18.27
Baishan Huafeng Wood Product Co., Ltd. | 18.27
Changbai Mountain Development and Protection Zone Hongtu Wood Industry Co., Ltd. | 18.27
Changzhou Hawd Flooring Co., Ltd. | 18.27
Chinafloors Timber (China) Co., Ltd. | 18.27
Dalian Huilong Wooden Products Co., Ltd. | 18.27
Dalian Jiuyuan Wood Industry Co., Ltd. | 18.27
Dalian Kemian Wood Industry Co., Ltd. | 18.27
Dalian Penghong Floor Products Co., Ltd. | 18.27
Dalian T-Boom Wood Products Co., Ltd. | 18.27
Dasso Industrial Group Co., Ltd.⁵ | 18.27
Dongtai Fuan Universal Dynamics, LLC | 18.27
Dunhua City Dexin Wood Industry Co., Ltd. | 18.27
Dunhua City Hongyuan Wood Industry Co., Ltd. | 18.27
Dun Hua City Jisen Wood Industry Co., Ltd. | 18.27
Dunhua City Wanrong Wood Industry Co., Ltd. | 18.27
Dun Hua Sen Tai Wood Co., Ltd. | 18.27
Fine Furniture (Shanghai) Limited | 18.27
Fusong Jinlong Wooden Group ⁶ | 18.27
GTP International Ltd. | 18.27
Guangdong Yihua Timber Industry Co., Ltd. | 18.27
Guangzhou Panyu Kangda Board Co., Ltd. | 18.27
Guangzhou Panyu Southern Star Co., Ltd. | 18.27
HaiLin LinJing Wooden Products, Ltd | 18.27
Hangzhou Hanje Tec Co., Ltd. | 18.27
Hangzhou Zhengtian Industrial Co., Ltd. | 18.27
Hunchun Forest Wolf Wooden Industry Co., Ltd. | 18.27
Huzhou Chenghang Wood Co., Ltd. | 18.27
Huzhou Fulinmen Imp. & Exp. Co., Ltd. | 18.27
Huzhou Jesonwood Co., Ltd. | 18.27
Huzhou Sunergy World Trade Co., Ltd. | 18.27
Jianfeng Wood (Suzhou) Co., Ltd. | 18.27
Jiangsu Guyu International Trading Co., Ltd. | 18.27
Jiangsu Kentier Wood Co., Ltd. | 18.27
Jiangsu Mingle Flooring Co., Ltd. | 18.27
Jiangsu Simba Flooring Co., Ltd. | 18.27
Jiashan HuiJiaLe Decoration Material Co., Ltd. | 18.27
Jilin Forest Industry Jinqiao Flooring Group Co., Ltd. | 18.27
Jilin Xinyuan Wooden Industry Co., Ltd. | 18.27
Karly Wood Product Limited | 18.27
Kemian Wood Industry (Kunshan) Co., Ltd. | 18.27
Linyi Youyou Wood Co., Ltd.⁷ | 18.27
Metropolitan Hardwood Floors, Inc. | 18.27
Mudanjiang Bosen Wood Industry Co., Ltd. | 18.27
Nakahiro Jyou Sei Furniture (Dalian) Co., Ltd. | 18.27
Nanjing Minglin Wooden Products Co., Ltd. | 18.27
Puli Trading Limited | 18.27
Samling Group ⁸ | 18.27
Shanghai Eswell Timber Co., Ltd. | 18.27
Shanghai Lairunde Wood Co., Ltd. | 18.27
Shanghai New Sihe Wood Co., Ltd. | 18.27
Shanghai Shenlin Corp. | 18.27
Shenyang Haobainian Wooden Co., Ltd. | 18.27
Shenzhenshi Huanwei Woods Co., Ltd | 18.27
Suzhou Dongda Wood Co., Ltd. | 18.27
Tongxiang Jisheng Import and Export Co., Ltd. | 18.27
Xiamen Yung De Ornament Co., Ltd. | 18.27
Xuzhou Shenghe Wood Co., Ltd. | 18.27
Yingyi-Nature (Kunshan) Wood Industry Co., Ltd. | 18.27
Yixing Lion-King Timber Industry Co., Ltd. | 18.27
Zhejiang Biyork Wood Co., Ltd. | 18.27
Zhejiang Dadongwu Greenhome Wood Co., Ltd. | 18.27
Zhejiang Fudeli Timber Industry Co., Ltd. | 18.27
Zhejiang Fuma Warm Technology Co., Ltd. | 18.27
Zhejiang Longsen Lumbering Co., Ltd. | 18.27
Zhejiang Shiyou Timber Co., Ltd. | 18.27
Zhejiang Tianzhen Bamboo & Wood Development Co., Ltd. | 18.27
PRC-Wide Entity ⁹ | 58.84

⁵ The initiation notice (Initiation of Antidumping and Countervailing Duty Administrative Reviews and Request for Revocation in Part, 79 FR 6147 (February 3, 2014)) included Hangzhou Dazhuang Floor Co. (dba Dasso Industrial Group Co., Ltd.); however, Dasso Industrial Group Co., Ltd. (“Dasso”) certified in its March 21, 2014 separate-rate certification that it no longer uses the name Hangzhou Dazhuang Floor Co., Ltd., and did not use that name during the POR. Therefore, the separate-rate status applies only to Dasso.

⁶ The following companies are collectively known as The Fusong Jinlong Group (“Fusong Jinlong Group”): Dalian Qianqiu Wooden Product Co., Ltd.; Fusong Jinlong Wooden Group Co., Ltd.; Fusong Jinqiu Wooden Product Co., Ltd.; and Fusong Qianqiu Wooden Product Co., Ltd.

⁷ The Department determined that Linyi Youyou Wood Co., Ltd. is the successor-in-interest to Shanghai Lizhong Wood Products Co., Ltd./The Lizhong Industry Limited Company of Shanghai. See Multilayered Wood Flooring From the People's Republic of China: Final Results of Changed Circumstances Review, 79 FR 58740 (September 30, 2014).

⁸ The following companies are collectively known as The Samling Group (“Samling Group”): Baroque Timber Industries (Zhongshan) Co., Ltd.; Riverside Plywood Corporation; Samling Elegant Living Trading (Labuan) Limited; Samling Global USA, Inc.; and Samling Riverside Co., Ltd.

⁹ The following companies were named in the Initiation Notice but did not submit a certification of no shipment, separate rate application or separate rate certification; therefore they are part of the PRC-wide entity: Baiying Furniture Manufacturer Co., Ltd.; Dunhua Jisheng Wood Industry Co., Ltd.; Dunhua Shengda Wood Industry Co., Ltd.; Fu Lik Timber (HK) Co., Ltd.; Guangdong Fu Lin Timber Technology Limited, Guanghzhou Panyu Shatou Trading Co., Ltd.; Hunchun Xingjia Wooden Flooring Inc.; Huzhou Fuma Wood Bus. Co., Ltd.; Huzhou Ruifeng Imp. & Exp. Co., Ltd.; Jiazing Brilliant Import & Export Co., Ltd. Linyi Bonn Flooring Manufacturing Co., Ltd.; Sennorwell International Group (Hong Kong) Limited; Shenyang Sende Wood Co., Ltd.; Suzhou Anxin Weiguang Timber Co., Ltd.; Vicwood Industry (Suzhou) Co., Ltd.; Yekalon Industry, Inc.; Zhejiang AnJi XinFeng Bamboo & Wood Co., Ltd.; Zhejiang Desheng Wood Industry Co., Ltd.; Zhejiang Haoyun Wood Co., Ltd.; and Zhejiang Jeson Wood Co., Ltd.

Disclosure and Public Comment

The Department intends to disclose calculations performed for these preliminary results to the parties within five days of the date of publication of this notice.¹⁰ Interested parties may submit a case brief no later than 30 days after the date of publication of these preliminary results of review.¹¹ Rebuttal briefs may be filed no later than five days after the deadline for filing case briefs and may respond only to arguments raised in the case briefs.¹² A table of contents, list of authorities used and an executive summary of issues should accompany any briefs submitted to the Department. This summary should be limited to five pages total, including footnotes. Interested parties who wish to request a hearing, or to participate if one is requested, must submit a written request to the Assistant Secretary for Enforcement and Compliance, U.S. Department of Commerce, within 30 days after the date of publication of this notice.¹³ Requests should contain the party's name, address, and telephone number, the number of participants, and a list of the issues to be discussed. If a request for a hearing is made, the Department intends to hold the hearing at the U.S. Department of Commerce, 14th Street and Constitution Avenue NW., Washington, DC 20230, at a time to be determined.¹⁴ Parties should confirm by telephone the date, time, and location of the hearing two days before the scheduled date.

¹⁰ See 19 CFR 351.224(b).

¹¹ See 19 CFR 351.309(c)(ii).

¹² See 19 CFR 351.309(d).

¹³ See 19 CFR 351.310(c).

¹⁴ See 19 CFR 351.310(d).

All submissions, with limited exceptions, must be filed electronically using ACCESS. An electronically filed document must be received successfully in its entirety by 5 p.m. Eastern Time (“ET”) on the due date. Documents excepted from the electronic submission requirements must be filed manually (i.e., in paper form) with the APO/Dockets Unit in Room 1870 and stamped with the date and time of receipt by 5 p.m. ET on the due date.¹⁵

¹⁵ See Antidumping and Countervailing Duty Proceedings: Electronic Filing Procedures; Administrative Protective Order Procedures, 76 FR 39263 (July 6, 2011).

The Department intends to issue the final results of this administrative review, which will include the results of its analysis of issues raised in any briefs, within 120 days of publication of these preliminary results, pursuant to section 751(a)(3)(A) of the Act.

Assessment Rates

Upon issuance of the final results, the Department will determine, and CBP shall assess, antidumping duties on all appropriate entries covered by this review.¹⁶ The Department intends to issue assessment instructions to CBP 15 days after the publication date of the final results of this review. For any individually examined respondent whose weighted-average dumping margin is above de minimis (i.e., 0.50 percent) in the final results of this review, the Department will calculate an importer-specific assessment rate on the basis of the ratio of the total amount of antidumping duties calculated for the importer's examined sales and the total entered value of sales, in accordance with 19 CFR 351.212(b)(1). In these preliminary results, the Department applied the assessment rate calculation method adopted in the Final Modification for Reviews.¹⁷ Where either the respondent's weighted-average dumping margin is zero or de minimis, or an importer- (or customer-) specific assessment rate is zero or de minimis, we will instruct CBP to liquidate the appropriate entries without regard to antidumping duties. We intend to instruct CBP to liquidate entries containing subject merchandise exported by the PRC-wide entity at the PRC-wide rate we determine in the final results of this review.

¹⁶ See 19 CFR 351.212(b)(1).

¹⁷ See Antidumping Proceeding Calculation of the Weighted-Average Dumping Margin and Assessment Rate in Certain Antidumping Duty Proceedings; Final Modification, 77 FR 8101 (February 14, 2012) (“Final Modification for Reviews.”).

On October 24, 2011, the Department announced a refinement to its assessment practice in NME antidumping duty cases.¹⁸ Pursuant to this refinement in practice, for merchandise that was not reported in the U.S. sales databases submitted by an exporter individually examined during this review, but that entered under the case number of that exporter (i.e., at the individually-examined exporter's cash deposit rate), the Department will instruct CBP to liquidate such entries at the PRC-wide rate. Additionally, pursuant to this refinement, if the Department determines that an exporter under review had no shipments of the subject merchandise, any suspended entries that entered under that exporter's case number will be liquidated at the PRC-wide rate.

¹⁸ See Non-Market Economy Antidumping Proceedings: Assessment of Antidumping Duties, 76 FR 65694 (October 24, 2011), for a full discussion of this practice.

Cash Deposit Requirements

The following cash deposit requirements will be effective upon publication of the final results of this administrative review for shipments of the subject merchandise from the PRC entered, or withdrawn from warehouse, for consumption on or after the publication date, as provided by section 751(a)(2)(C) of the Act: (1) For the companies listed above the cash deposit rate will be their respective rate established in the final results of this review, except if the rate is zero or de minimis (i.e., less than 0.5 percent), then no cash deposit will be required; (2) for previously investigated PRC and non-PRC exporters not listed above that have separate rates, the cash deposit rate will continue to be the exporter-specific rate published for the most recent period; (3) for all PRC exporters of subject merchandise which have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing these results in accordance with sections 751(a)(1) and 777(i)(1) of the Act and 19 CFR 351.213.

Dated: December 31, 2014.
Paul Piquado,
Assistant Secretary for Enforcement and Compliance.

Appendix—List of Topics Discussed in the Preliminary Decision Memorandum

1. Background

2. Period of Review

3. Extension of Preliminary Results

4. Scope of the Order

5. Selection of Respondents

6. Non-Market Economy Country

7. Separate Rate

8. Rate for Non-Examined, Separate Rate Respondents

9. The PRC-wide Entity

10. Surrogate Country and Surrogate Value Data

11. Date of Sale

12. Fair Value Comparisons

13. Affiliation and Single Entity Status

14. U.S. Price

15. Value Added Tax

16. Factor Valuations

17. Adjustment Under Section 777(A)(f) of the Act

18. Currency Conversion

[FR Doc. 2015-00197 Filed 1-8-15; 8:45 am]

BILLING CODE 3510-DS-P